DEPARTMENT OF AGRICULTURE

Animal and Plant Health Inspection Service

[Docket No. APHIS-2020-0016]

Privacy Act of 1974; System of Records

AGENCY: Animal and Plant Health Inspection Service, USDA.

ACTION: Notice of a modified system of records; reopening of comment period.

SUMMARY: The Animal and Plant Health Inspection Service (APHIS) is reopening the comment period for our notice that proposes to modify an existing system of records titled, APHIS Animal Health Surveillance and Monitoring System, USDA/APHIS-15, which will be renamed Animal Health, Disease, and Pest Surveillance and Management System, USDA/APHIS-15. This system is used by APHIS to collect, manage, and evaluate animal health data for disease and pest control and surveillance programs. This action will allow interested persons additional time to prepare and submit comments.

DATES: The comment period for the notice published on April 3, 2024 (89 FR 22975-22979) is reopened. We will consider all comments that we receive on or before July 17, 2024.

ADDRESSES: You may submit comments by either of the following methods:

• Federal eRulemaking Portal: Go to http://www.regulations.gov. Enter APHIS-2020-0016 in the Search field. Select the Documents tab, then select the Comment button in the list of documents.

• Postal Mail/Commercial Delivery: Please send one copy of your comment to Docket No. APHIS-2020-0016, Regulatory Analysis and Development, PPD, APHIS, Station 3A-03.8, 4700 River Road, Unit 118, Riverdale, MD 20737-1238.

Any comments we receive on this docket may be viewed at http://www.regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Mr. Christopher Quatrano, CFI Director, Center for Informatics, Center for Epidemiology and Animal Health, VS, APHIS, USDA, 2150 Centre Ave., Bldg. B, Fort Collins, CO 80526; vs.dataservices@usda.gov. For Privacy Act questions concerning this system of records notice, please contact Director, Freedom of Information and Privacy Act Staff, 4700 River Road, Unit 50, Riverdale, MD 20737; (301) 851-4076; email: APHISPrivacy@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: On April 3, 2024, we published in the Federal Register (89 FR 22975-22979, Docket No. APHIS-2020-0016) a notice ¹ to modify an existing system of records for the Animal and Plant Health Inspection Service (APHIS) Animal Health Surveillance and Monitoring System, USDA/APHIS-15. In addition to other things, APHIS is modifying the system of records to rename the system as “Animal Health, Disease, and Pest Surveillance and Management System, USDA/APHIS-15” and expanding the system to include records of activities maintained in the Comprehensive and Integrated Animal Health Surveillance System (CIAHSS), which consists of multiple information technology platforms that exchanges data and that contains animal health and surveillance data. Expansion of the system also includes any electronic or hard copies of forms or other records used to enter data into CIAHSS or that may be saved in a CIAHSS application.

¹ To view the notice and comments, go to www.regulations.gov. Enter APHIS-2020-0016 in the Search field.

Comments on the notice were required to be received on or before May 3, 2024. We are reopening the comment period on Docket No. APHIS-2020-0016 for an additional 30 days from the date of publication of this notice because the Comment button did not appear on regulations.gov when the notice was posted, though interested parties could provide comments via postal mail. This action will allow interested persons additional time to prepare and submit comments. We will also consider all comments received between May 4, 2024 (the day after the close of the original comment period) and the date of this notice.

Done in Washington, DC, this 10th day of June 2024.
Michael Watson,
Administrator, Animal and Plant Health Inspection Service.

[FR Doc. 2024-13201 Filed 6-14-24; 8:45 am]

BILLING CODE 3410-34-P